DEPARTMENT OF THE TREASURY

Alcohol and Tobacco Tax and Trade Bureau

27 CFR Part 9

[Docket No. TTB-2008-0009; Notice No. 91; Re: Notice No. 90]

RIN 1513-AB57

Proposed Expansions of the Russian River Valley and Northern Sonoma Viticultural Areas; Reopening of Comment Period

AGENCY: Alcohol and Tobacco Tax and Trade Bureau, Treasury.

ACTION: Notice of proposed rulemaking; reopening of comment period.

SUMMARY: In response to an industry member request, the Alcohol and Tobacco Tax and Trade Bureau is reopening the comment period for Notice No. 90, Proposed Expansions of the Russian River Valley and Northern Sonoma Viticultural Areas, a notice of proposed rulemaking published in the Federal Register on August 20, 2008.

DATES: Written comments on Notice No. 90 must now be received on or before December 19, 2008.

ADDRESSES: You may send comments on Notice No. 90 to one of the following addresses:

• http://www.regulations.gov (via the online comment form for this notice as posted within Docket No. TTB-2008-0009 on Regulations.gov, the Federal e-rulemaking portal); or

• Mail: Director, Regulations and Rulings Division, Alcohol and Tobacco Tax and Trade Bureau, P.O. Box 14412, Washington, DC 20044-4412; or

You may view copies of this notice, Notice No. 90, and any comments we receive about Notice No. 90 at http://www.regulations.gov. A direct link to the appropriate Regulations.gov docket is available under Notice No. 90 on the TTB Web site at http://www.ttb.gov/wine/wine_rulemaking.shtml. You also may view copies of this notice, Notice No. 90, and any comments we receive about Notice No. 90 by appointment at the TTB Information Resource Center, 1310 G Street, NW., Washington, DC 20220. To make an appointment, call 202-927-2400.

FOR FURTHER INFORMATION CONTACT: Jennifer Berry, Regulations and Rulings Division, Alcohol and Tobacco Tax and Trade Bureau, P.O. Box 18152, Roanoke, VA 24014; telephone 540-344-9333.

SUPPLEMENTARY INFORMATION: On August 20, 2008, the Alcohol and Tobacco Tax and Trade Bureau (TTB) published Notice No. 90, Proposed Expansions of the Russian River Valley and Northern Sonoma Viticultural Areas, in the Federal Register (73 FR 49123). In that notice of proposed rulemaking, TTB requested public comment on its proposed expansions of the Russian River Valley and Northern Sonoma viticultural areas in Sonoma County, California. The 60-day comment period for Notice No. 90, when published, was scheduled to close on October 20, 2008.

After publication of Notice No. 90, TTB received a request from Merry Edwards on behalf of the Russian River Valley Boundary Integrity Coalition, a group of area vineyards and wineries, to extend the comment period for Notice No. 90 for an additional 60 days. Ms. Edwards noted in support of the request that members of the coalition are currently immersed in the grape harvest in the Russian River Valley. Ms. Edwards states that this extension will allow members to focus on the petition after harvest activities are complete.

In response to this request, TTB reopens the comment period for Notice No. 90 for an additional 60 days beyond the original closing date, thus leaving Notice No. 90 open to public comment for a total of 4 months. We believe this time period will allow industry members and the public to fully consider the proposals outlined in Notice No. 90. Therefore, comments on Notice No. 90 are now due on or before December 19, 2008.

Drafting Information: Jennifer Berry of the Regulations and Rulings Division drafted this notice.

Signed: October 22, 2008.
William H. Foster,
Assistant Administrator, Headquarters Operations.

[FR Doc. E8-25748 Filed 10-28-08; 8:45 am]

BILLING CODE 4810-31-P